INTERNATIONAL TRADE COMMISSION

[Investigation No. 337-TA-1123]

Certain Carburetors and Products Containing Such Carburetors Institution of Investigation

AGENCY: U.S. International Trade Commission.

ACTION: Notice.

SUMMARY: Notice is hereby given that a complaint was filed with the U.S. International Trade Commission on June 14, 2018, under section 337 of the Tariff Act of 1930, as amended, on behalf of Walbro, LLC of Tucson, Arizona. A supplement to the complaint was filed on June 22, 2018. The complaint, as supplemented, alleges violations of section 337 based upon the importation into the United States, the sale for importation, and the sale within the United States after importation of certain carburetors and products containing such carburetors by reason of infringement of certain claims of U.S. Patent No. 6,394,424 (“the '424 patent”); U.S. Patent No. 6,439,547 (“the '547 patent”); U.S. Patent No. 6,533,254 (“the '254 patent”); U.S. Patent No. 6,540,212 (“the '212 patent”); and U.S. Patent No. 7,070,173 (“the '173 patent”). The complaint further alleges that an industry in the United States exists as required by the applicable Federal Statute.

The complainant requests that the Commission institute an investigation and, after the investigation, issue a general or limited exclusion order, in the alternative a limited exclusion order, and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2018).

Scope of Investigation: Having considered the complaint, the U.S. International Trade Commission, on July 16, 2018, ordered that—

(1) Pursuant to subsection (b) of section 337 of the Tariff Act of 1930, as amended, an investigation be instituted to determine whether there is a violation of subsection (a)(1)(B) of section 337 in the importation into the United States, the sale for importation, or the sale within the United States after importation of products identified in paragraph (2) by reason of infringement of one or more of claims 1, 2, 16, 18, and 19 of the '424 patent; claims 1 and 18 of the '547 patent; claims 1-7, 12, and 13 of the '254 patent; claims 12, 14, 15, and 18 of the '212 patent; and claims 54-57, 60, and 62-65 of the '173 patent; and whether an industry in the United States exists as required by subsection (a)(2) of section 337.

(2) Pursuant to section 210.10(b)(1) of the Commission's Rules of Practice and Procedure, 19 CFR 210.10(b)(1), the plain language description of the accused products or category of accused products, which defines the scope of the investigation, is “handheld carburetors for small or utility gasoline engines that are used in chainsaws, leaf blowers, backpack blowers, trimmers, lawn trimmers, string trimmers, line trimmers, weed whackers, hedge trimmers, pole hedge trimmers, backpack hedge trimmers, earth augers, power augers, hole diggers, post hole diggers, ice augers, cultivators, mini-tillers, water pumps, electricity generators, inverter generators, mini dirt bikes, mini-bikes, pocket bikes, pit bikes, transfer pumps, brush cutters, clearing saws, pole saws, pole pruners, pruning saw, hammer drills, rotary hammers, sprayers, backpack sprayers, misters, backpack misters, post drivers, piling drivers, post pounders, multi-tools, engine powered drill, fogging machine, insect fogger, orchard fogger, mosquito fogger, mist blower, gasoline powered atomizer, duster, backpack duster, pressure washer, demolition saws, power cutters, cut off saw, cut-off saw, disc cutter, circular saw, concrete saw, masonry saw, reciprocating saw, jack hammer, jackhammer, concrete breaker, drill punch, lawn edger, edger, bed redefiner, snow blower, snow broom, snow sweeper, power broom, powerbroom, shredder-vac, shredder vac, leaf shredder vacuum, leaf vacuum, leaf mulcher, mulching vacuum, planting auger, scooter, motorized skateboard, moped, go kart, outboard motor, wheeled line trimmer, vibratory concrete screed, compactor, core drill, soil sampler, earth drill, winch, capstan winch, motorized bicycle, bicycle engine conversion kit, Bike engine kit, bicycle engine kit, friction drive motor kit, aftermarket replacement engines, and aftermarket replacement carburetors.”

(3) For the purpose of the investigation so instituted, the following are hereby named as parties upon which this notice of investigation shall be served:

(a) The complainant is: Walbro, LLC, 2015 W. River Road #202, Tucson, AZ 85704.

(b) The respondents are the following entities alleged to be in violation of section 337, and are the parties upon which the complaint is to be served:

Ruixing Carburetor, Manufacturing Co., Ltd., Zhejiang, Zhejiang Ruian City and Auto Parts Industrial, Bas North Fengdu Five Road, No. 168, China

Huayi Carburetor Factory, B210-5, Wuhuan Building, Yuan Jigang, Chongqinq China

Tillotson, Clash Industrial Estate, Tralee, Co. Kerry, Ireland

Fujian Hualong Carburetor Co., Ltd., Fuding City Yongsan Industrial Zone 99, China

Fuding Guangda General, Machinery Co., Ltd., Tietang Industrial District, Fuding City, Fujian Province, 355200 China

Wuyi Henghai Tools Co., Ltd., Baihuashan Industrial Zone, Wuyi 321200, Jinhua, Zhejiang, China

Fuding Youyi Trade Co., Ltd., No. 176, Yuhu Community, Taimushan Town, Fuding, Ningde, Fujian, 355203 China

Amazon.com, Inc., 410 Terry Ave. N, Seattle, Washington 98109-5210

Amerisun Inc., 1141 Bryn Mawr Ave., Itasca, Illinois 60143

Ardisam, Inc., 2260 8th Ave., Cumberland, Wisconsin 54829

Buffalo Corporation, 950 Hoff Rd., O'Fallon, Missouri 63366

Cabela's Incorporated, One Cabela Dr., Sidney, Nebraska 69160

Champion Power Equipment, Inc., 12039 Smith Ave., Santa Fe Springs, California 90670

Feldmann Eng. & Mfg. Co., Ltd., 520 Forest Ave., Sheboygan Falls, Wisconsin 53085

FNA Group, Inc., 7152 99th St., Pleasant Prairie, Wisconsin 53185

Frictionless World, LLC, 1100 W. 120th Ave, Suite 600, Denver, Colorado 80234

Generac Power Systems, Inc., S45W29290 Highway 59, Waukesha, Wisconsin 53189

Husqvarna Professional Products, Inc., 9335 Harris Corners Parkway, Suite 500, Charlotte, North Carolina 29269

Imperial Industrial Supply Co., d/b/a DuroMax Power Equipment, 5800 Ontario Mills Parkway, Ontario, California 91764

Kmart Corporation, 3333 Beverly Rd., Hoffman Estates, Illinois 60179

Lowe's Companies, Inc., 1000 Lowes Boulevard, Mooresville, North Carolina 28117

MAT Industries, LLC, 6700 Wildlife Way, Lake Zurich, Illinois 60047

Menards, Inc., 4777 Menard Dr., Eau Claire, Wisconsin 54703

MTD Products Inc., 5965 Grafton Rd., Valley City, Ohio 44280

North American Tool Industries, 78 Commercial Rd., Huntington, Indiana 48750

Northern Tool & Equipment Co., Inc., 2800 Southcross Dr. W., Burnsville, Minnesota 55306

QV Tools LLC, 2731 Crimson Canyon Dr., Las Vegas, Nevada 89128

Sears, Roebuck and Co., 3333 Beverly Rd., Hoffman Estates, Illinois 60179

Target Corporation, 1000 Nicollet Mall, Minneapolis, Minnesota 55403

Techtronics Industries Co. Ltd of Hong Kong d/b/a Techtronic Industries Power Equipment, 29/F, Tower 2, Kowloon Commerce Centre, 51 Kwai Cheong Rd., Kwai Chung, New Territories, Hong Kong

The Home Depot, Inc., 2455 Paces Ferry Rd NW, Atlanta, Georgia 30339

Thunderbay Products, 115 N. Prentice St., Clayton, Wisconsin 54004

Tool Tuff Direct LLC, 15000 W. 44th Ave., Suite B, Golden, Colorado 80403

Tractor Supply Company, 5401 Virginia Way, Brentwood, Tennessee 37027

Walmart Inc., 703 SW 8th St., Bentonville, Arkansas 72716

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: July 17, 2018.
Lisa Barton,
Secretary to the Commission.

[FR Doc. 2018-15541 Filed 7-19-18; 8:45 am]

BILLING CODE 7020-02-P